DEPARTMENT OF STATE

[Delegation of Authority No. 523]

Delegation of the Functions and Authorities Relating to Immunity From Judicial Seizure

By virtue of the authority vested in the Assistant Secretary of State for Educational and Cultural Affairs, including by Delegation of Authority No. 236-3 (August 28, 2000), and to the extent permitted by law, I hereby authorize the Principal Deputy Assistant Secretary for Educational and Cultural Affairs and the Deputy Assistant Secretary for Professional and Cultural Exchanges, as the designees of the Assistant Secretary, to exercise the functions and authorities in 22 U.S.C. 2459, concerning immunity from judicial seizure for cultural objects imported into the United States for temporary storage, conservation, scientific research, exhibition or display.

Any functions and authorities covered by this delegation may also be exercised by the Secretary, the Deputy Secretary, the Deputy Secretary for Management and Resources, the Under Secretary for Public Diplomacy and Public Affairs, and the Assistant Secretary for Educational and Cultural Affairs.

This Delegation of Authority does not revoke or otherwise affect any other delegation of authority currently in effect.

Any reference in this Delegation of Authority to any statute or delegation of authority shall be deemed to be a reference to such statute or delegation of authority as amended from time to time.

This Delegation shall be published in the Federal Register.
Lee A. Satterfield,
Assistant Secretary for Educational and Cultural Affairs, U.S. Department of State.

[FR Doc. 2021-28258 Filed 12-28-21; 8:45 am]

BILLING CODE 4710-05-P